DEPARTMENT OF TRANSPORTATION

Federal Aviation Administration

14 CFR Part 39

[Docket No. 2000-NM-369-AD]

RIN 2120-AA64

Airworthiness Directives; Lockheed Model L-1011 Series Airplanes

AGENCY: Federal Aviation Administration, DOT.

ACTION: Notice of proposed rulemaking (NPRM).

SUMMARY: This document proposes to revise an existing airworthiness directive (AD), applicable to all Lockheed Model L-1011-385 series airplanes, that currently requires modifications of the engine turbine cooling air panel at the flight engineer/second officer's console, pilot's caution and warning light panel on the main instrument panel, and monitoring system for the engine turbine air temperature. That AD was prompted by reports of an undetected fire breaching the high speed gearbox (HSGB) case on certain Rolls Royce engines installed on in-service airplanes due to lack of an internal fire detection system within the HSGB. The actions specified by that AD are intended to prevent undetected fires originating within the HSGB from breaching the HSGB case, which could result in engine damage and increased difficulty in extinguishing a fire. This action would remove certain airplanes from the applicability of the existing AD.

DATES: Comments must be received by June 11, 2001.

ADDRESSES: Submit comments in triplicate to the Federal Aviation Administration (FAA), Transport Airplane Directorate, ANM-114, Attention: Rules Docket No. 2000-NM-369-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-369-AD” in the subject line and need not be submitted in triplicate. Comments sent via the Internet as attached electronic files must be formatted in Microsoft Word 97 for Windows or ASCII text.

The service information referenced in the proposed rule may be obtained from Lockheed Martin Aircraft & Logistics Center, 120 Orion Street, Greenville, South Carolina 29605. This information may be examined at the FAA, Transport Airplane Directorate, 1601 Lind Avenue, SW., Renton, Washington; or at the FAA Atlanta Aircraft Certification Office, One Crown Center, 1895 Phoenix Boulevard, suite 450, Atlanta, Georgia.

FOR FURTHER INFORMATION CONTACT: Thomas Peters, Aerospace Engineer, Systems and Flight Test Branch, ACE-116A, FAA, Atlanta Aircraft Certification Office, One Crown Center, 1895 Phoenix Boulevard, suite 450, Atlanta, Georgia 30349; telephone (770) 703-6063 fax (770) 703-6097.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-369-AD.” The postcard will be date stamped and returned to the commenter.

Availability of NPRMs

Any person may obtain a copy of this NPRM by submitting a request to the FAA, Transport Airplane Directorate, ANM-114, Attention: Rules Docket No. 2000-NM-369-AD, 1601 Lind Avenue, SW., Renton, Washington 98055-4056.

Discussion

On August 24, 2000, the FAA issued AD 2000-17-10, amendment 39-11884 (65 FR 53157, September 1, 2000), applicable to all Lockheed Model L-1011-385 series airplanes, to require modifications of the engine turbine cooling air panel at the flight engineer/second officer's console, pilot's caution and warning light panel on the main instrument panel, and monitoring system for the engine turbine air temperature. That action was prompted by reports of an undetected fire breaching the high speed gearbox (HSGB) case on certain Rolls Royce engines installed on in-service airplanes due to lack of an internal fire detection system within the HSGB. The requirements of that AD are intended to prevent undetected fires originating within the HSGB from breaching the HSGB case, which could result in engine damage and increased difficulty in extinguishing a fire.

Actions Since Issuance of Previous Rule

Since the issuance of that AD, the FAA notes that one of the Rolls Royce service bulletins that was referenced in a note in AD 2000-17-10 is effective only for Rolls Royce RB211-524 series engines and does not include procedures for Rolls Royce RB211-22B series engines. Therefore, there is insufficient guidance for operators of Lockheed Model L-1011-385 series airplanes on which Rolls Royce RB211-22B series engines are installed to accomplish the requirements specified in AD 2000-17-10.

In order to continue addressing the unsafe condition of Model L-1011-385 series airplanes equipped with Rolls Royce Model RB211-524 series engines, we are proposing this Notice of Proposed Rulemaking (NPRM) revision to reduce the applicability by changing it from “all Model L-1011-385 series airplanes,” to apply only to Model L-1011-385 series airplanes equipped with Rolls Royce Model RB211-524 series engines.

The manufacturer has advised the FAA that it is in the process of developing a Rolls Royce RB211-22B service bulletin similar to the bulletin specified for Rolls Royce Model RB211-524 series engines. We may consider further rulemaking for Model L-1011-385 series airplanes equipped with Rolls Royce Model RB211-22B series engines, when the new service bulletin is developed, issued, and approved by the FAA.

Additionally, the FAA has removed paragraph (b) of AD 2000-17-10 that specifies that, “no person shall install on any airplane, an engine turbine cooling air panel assembly, part number 1559672, or a pilot's caution and warning light panel assembly on the main instrument panel, unless it has been modified in accordance with paragraphs (a)(1) and (a)(2) of this AD.” We note that it is only necessary to require the installation of the updated caution and warning light panel assembly and to prohibit installation of the engine turbine cooling air panel assembly, part number 1559672, after installation of the monitoring system for the engine turbine air temperature has been accomplished. Since the compliance time for installation of the engine turbine air temperature is not until 24 months after the effective date of the AD, it is unnecessary to specify the requirements of paragraph (b) of AD-2000-17-10.

Explanation of Requirements of Proposed Rule

Since an unsafe condition has been identified that is likely to exist or develop on other products of this same type design, the proposed AD would revise AD 2000-17-10 by reducing the applicability of that AD to specify only Model L-1011-385 series airplanes equipped with Rolls Royce Model RB211-524 series engines. As previously explained, we have not retained paragraph (b) of the existing AD in this proposed rule.

Cost Impact

There are approximately 54 Lockheed Model L-1011-385 series airplanes of the affected design in the worldwide fleet. The FAA estimates that 29 Model L-1011-385 series airplanes of U.S. registry would be affected by this proposed AD, that it would take approximately 8 work hours per engine (3 engines per airplane) to accomplish the proposed actions, and that the average labor rate is $60 per work hour. Required parts would cost approximately $6,320 per engine, or $18,960 per airplane. Based on these figures, the cost impact of the proposed AD on U.S. operators is estimated to be $591,600 or $20,400 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11884 (65 FR 53157, September 1, 2000), and by adding a new airworthiness directive (AD), to read as follows:

Lockheed: Docket 2000-NM-369-AD. Revises AD 2000-17-10, Amendment 39-11884.

Applicability: Model L-1011-385 series airplanes equipped with Rolls Royce Model RB211-524 series engines, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent undetected fires originating within the high speed gearbox (HSGB) from breaching the HSGB case, which could result in engine damage and increased difficulty in extinguishing a fire, accomplish the following:

Restatement of Requirements of AD 2000-17-10

Modification

(a) Within 24 months after October 6, 2000 (the effective date of AD 2000-17-10, amendment 39-11884), accomplish the actions specified in paragraphs (a)(1), (a)(2), and (a)(3) of this AD, in accordance with Lockheed Service Bulletin 093-77-059, dated February 25, 1998; or Revision 1, dated February 2, 1999.

(1) Modify the engine turbine cooling air panel at the flight engineer/second officer's console.

(2) Modify the pilot's caution and warning light panel on the main instrument panel.

(3) Modify the monitoring system for the engine turbine air temperature.

Note 2: Lockheed Service Bulletin 093-77-059 refers to Rolls Royce Service Bulletins RB.211-72-C178, dated March 20, 1998; and RB.211-77-C144, dated August 7, 1998; as additional sources of service information for accomplishment of the modification of the monitoring system for the engine turbine air temperature.

Alternative Methods of Compliance

(b) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta Aircraft Certification Office (ACO).

Note 3: Information concerning the existence of approved alternative methods of compliance with this AD, if any, may be obtained from the Atlanta ACO.

Special Flight Permits

(c) Special flight permits may be issued in accordance with sections 21.197 and 21.199 of the Federal Aviation Regulations (14 CFR 21.197 and 21.199) to operate the airplane to a location where the requirements of this AD can be accomplished.

Issued in Renton, Washington, on April 19, 2001.
Donald L. Riggin,
Acting Manager, Transport Airplane Directorate, Aircraft Certification Service.

[FR Doc. 01-10342 Filed 4-25-01; 8:45 am]

BILLING CODE 4910-13-U